DEPARTMENT OF THE INTERIOR

Bureau of Land Management

[NMNM 94899, NMNM 94902, NMNM 94903]

Public Land Order No. 7599; Withdrawal of National Forest System Lands for the Capilla Peak, La Mosca Peak, and Microwave Electronic Sites; New Mexico

AGENCY: Bureau of Land Management, Interior.

ACTION: Public Land Order.

SUMMARY: This order withdraws 329.44 acres of National Forest System lands from location and entry under the United States mining laws for 20 years to protect the Capilla Peak, La Mosca Peak, and Microwave Electronic Sites.

EFFECTIVE DATE: March 15, 2004.

FOR FURTHER INFORMATION CONTACT: Joseph Jaramillo, BLM Albuquerque Field Office, 435 Montano NE Albuquerque, New Mexico 87107, 505-761-8779.

Order

By virtue of the authority vested in the Secretary of the Interior by Section 204 of the Federal Land Policy and Management Act of 1976, 43 U.S.C. 1714 (2000), it is ordered as follows:

1. Subject to valid existing rights, the following described National Forest System lands are hereby withdrawn from location and entry under the United States mining laws, 30 U.S.C. Ch. 2 (2000), to protect the Capilla Peak, La Mosca Peak, and Microwave Electronic Sites:

Cibola National Forest

New Mexico Principal Meridian

Capilla Peak Electronic Site

T. 5 N., R. 5 E.,

Sec. 3, W½ lot 2, E½ lot 3, E½W½ lot 3, NE¼NW¼SW¼NE¼, W½W½SW¼NE¼, SE¼SE¼SW¼NW¼, E½SE¼NW¼, SW¼SE¼NW¼, N½NE¼NE¼SW¼, SW¼NE¼NE¼SW¼, NW¼NE¼SW¼, E½NE¼NW¼SW¼, and NW¼NE¼NW¼SW¼.

T. 6 N., R. 5 E.,

Sec. 34, E½SE¼SE¼SW¼ and W½SW¼SW¼SE¼.

La Mosca Peak Electronic Site

T. 12 N., R. 7 W.,

Sec. 20, SW¼SW¼NW¼NE¼, W½W½SW¼NE¼, E½E½SE¼SE¼NE¼, NW¼SE¼NE¼NW¼, S½SE¼NE¼NW¼, SW¼NE¼NW¼, S½NW¼NE¼NW¼, N½NW¼SE¼NW¼, NE¼SE¼NW¼, NW¼NW¼SE¼, and N½N½SW¼NW¼SE¼;

Sec. 21, W½W½SW¼SW¼NW¼.

Microwave Electronic Site

T. 11 N., R. 7 W.,

Sec. 8, S½SE¼SW¼ and SW¼SW¼SE¼;

Sec. 17, W½NW¼NE¼, NE¼NW¼, SE¼SW¼NW¼, N½SE¼NW¼, and SW¼SE¼NW¼.

The areas described aggregate 329.44 acres in Cibola and Torrance Counties.

2. This withdrawal will expire 20 years from the effective date of this order unless, as a result of a review conducted before the expiration date pursuant to Section 204(f) of the Federal Land Policy and Management Act of 1976, 43 U.S.C. 1714(f) (2000), the Secretary determines that the withdrawal shall be extended.

Dated: February 24, 2004.
Rebecca W. Watson,
Assistant Secretary—Land and Minerals Management.

[FR Doc. 04-5750 Filed 3-12-04; 8:45 am]

BILLING CODE 3410-11-P